DEPARTMENT OF COMMERCE

National Oceanic and Atmospheric Administration

[RTID 0648-XC412]

South Atlantic Fishery Management Council; Public Meeting

AGENCY: National Marine Fisheries Service (NMFS), National Oceanic and Atmospheric Administration (NOAA), Commerce.

ACTION: Notice of public meeting.

SUMMARY: The South Atlantic Fishery Management Council's (Council) will hold a meeting of the Snapper Grouper Advisory Panel (AP) October 18-20, 2022, in Charleston, SC.

DATES: The Snapper Grouper AP will meet from 1 p.m. until 5 p.m. on October 18; from 8:30 a.m. until 5 p.m. on October 19, and 8:30 a.m. until 12 p.m. on October 20, 2022.

ADDRESSES:

Meeting address: Town & Country Inn and Suites, 2008 Savannah Hwy, Charleston, SC 29407; phone: (843) 766-9444.

Council address: South Atlantic Fishery Management Council, 4055 Faber Place Drive, Suite 201, N Charleston, SC 29405.

FOR FURTHER INFORMATION CONTACT: Kim Iverson, Public Information Officer, SAFMC; phone: (843) 571-4366 or toll free: (866)SAFMC-10; fax: (843) 769-4520; email: kim.iverson@safmc.net.

SUPPLEMENTARY INFORMATION: Meeting information, including the agenda, overview, briefing book materials, and an online public comment form will be posted on the Council's website at: http://safmc.net/safmc-meetings/current-advisory-panel-meetings two weeks prior to the meeting. The meeting is open to the public and available via webinar as it occurs. The webinar registration link will be available from the Council's website. Public comment will also be taken during the meeting.

The agenda for the Snapper Grouper AP includes: an update on options considered to adjust red snapper catch levels and reduce release mortality through Snapper Grouper Regulatory Amendment 35; a review of management measures proposed for gag grouper and black grouper through Snapper Grouper Amendment 53; the draft Snapper Grouper Management Strategy Evaluation (MSE); and the Commercial Electronic Logbook Amendment.

The AP will also receive updates on the Florida Keys National Marine Sanctuary Restoration Blueprint and NOAA Fisheries proposed vessel speed regulations to boost protection of right whales.

AP members will receive updates on additional ongoing amendments to the Snapper Grouper Fishery Management Plan and other Council programs and initiatives. The AP will provide input and recommendations on agenda items for the Council's consideration and address other items as needed.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: September 27, 2022.
Rey Israel Marquez,
Acting Deputy Director, Office of Sustainable Fisheries, National Marine Fisheries Service.

[FR Doc. 2022-21299 Filed 9-29-22; 8:45 am]

BILLING CODE 3510-22-P